DEPARTMENT OF AGRICULTURE

Food and Nutrition Service

Agency Information Collection Activities: Proposed Collection; Comments Request—Evaluation of the Independent Review of Applications Process for School Meal Programs

AGENCY: Food and Nutrition Service (FNS), USDA.

ACTION: Notice.

SUMMARY: In accordance with the Paperwork Reduction Act of 1995, this notice invites the general public and other public agencies to comment on this proposed information collection. This collection is a new collection. The primary purpose of this study is to provide FNS with information about the effectiveness of the Independent Review of Applications (IRA) requirement that is conducted by local educational agencies in the school meal programs identified by the State agency as demonstrating high levels of, or a high risk for, administrative error in the certification of free and reduced price applications.

DATES: Written comments must be received on or before April 9, 2018.

ADDRESSES: Comments may be sent to: Jinee Burdg, MPP, RDN, LDN, Food and Nutrition Service, U.S. Department of Agriculture, 3101 Park Center Drive, Alexandria, VA 22302. Comments may also be submitted via fax to the attention of Jinee Burdg at 703-305-2744 or via email to Jinee.Burdg@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Alexandria, Virginia 22302.

All responses to this notice will be summarized and included in the request for Office of Management and Budget approval. All comments will be a matter of public record.

FOR FURTHER INFORMATION CONTACT: Requests for additional information or copies of this information collection should be directed to Jinee Burdg at 703-305-2744.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Evaluation of the Independent Review Process.

Form Number: Not applicable.

OMB Number: 0584—NEW.

Expiration Date: Not yet determined.

Type of Request: New collection.

Abstract: USDA's Food and Nutrition Service (FNS) administers the National School Lunch Program (NSLP) and School Breakfast Program (SBP) at the Federal level. Collectively, these programs are referred to as the school meal programs. At the State level, State agencies, typically State Departments of Education or Agriculture, operate the programs through agreements with Local Education Agencies (LEAs). Based on federal regulations at 7 CFR part 210, LEAs have the legal authority to operate the NSLP and SBP, and certify and verify student eligibility for free and reduced-price meals. Section 9 of the Richard B. Russell National School Lunch Act (42 U.S.C. 1758) and regulations at 7 CFR part 245 provide the requirements related to determining free and reduced-price meal eligibility including certification and verification requirements and procedures.

Program integrity is a long-standing issue of concern for the school meal programs. Prior studies revealed administrative error rates associated with certification of eligibility for free and reduced price meals between 3.00 percent and 3.75 percent in School Year (SY) 2005-2006 for the NSLP and SBP. In an effort to reduce the administrative certification error rate, the Healthy, Hunger-Free Kids Act of 2010 (HHFKA, Pub. L. 111-296) amended the Richard B. Russell National School Lunch Act (42 U.S.C 1769c (b)) to require an “independent review of applications” (IRA) of the eligibility determinations made via free and reduced price applications for certain LEAs. The provision is required of those LEAs that demonstrate high levels of, or a high risk for, administrative error associated with certification, verification, and other school meal program administrative processes, as determined by the State agency.

Program regulations at 7 CFR 245.11 provide two criteria to identify which LEAs must conduct the IRA: LEAs with 10 percent or more of certification/benefit issuances in error, as determined by the State agency during an administrative review (Criteria 1); and LEAs that the State agency considers at risk for certification error but were not selected under Criteria 1 (e.g., those with new electronic systems) (Criteria 2). LEAs must conduct the IRA before contacting the households to inform them of their eligibility status, and someone other than the original determining official must conduct it. LEAs first implemented the IRA requirement in SY 2014-2015.

FNS requires State agencies to submit an annual report on the results of the IRA process via Form FNS-874, Local Educational Agency Second Review of Applications Report (approved under OMB #0584-0594 Food Programs Reporting System (FPRS), expiration date September 30, 2019). The FNS-874 provides information on the results of the IRA for each LEA subject to the requirement, including the number of applications with changed eligibility determinations based on the IRA; the types of changes (e.g., free to reduced price); and reasons for changes (e.g., gross income calculation error, incomplete application error). Examination of the data received by FNS for SY 2014-2015 and SY 2015-2016 showed that few LEAs subject to IRA reported any changes in initial certification decisions as a result of conducting the IRA. This was unexpected given that the primary criterion for identifying LEAs to complete the IRA process is a demonstrated error rate of 10 percent or more on Administrative Review.

FNS is conducting a study, the Evaluation of the Independent Review Process, to provide important information about the IRA process at the State and LEA levels, its results, and its overall effectiveness. The key research objectives are to: (1) Describe the IRA processes and policies at the State and LEA levels; (2) review household applications; and (3) assess the effectiveness of the IRA process and provide recommendations for best practices. This study will help FNS identify best practices and inform if changes may be needed to the process.

The study approach includes surveys, key informant interviews, and analyses of household applications. Using web surveys of the 54 State Child Nutrition Directors and key informant telephone interviews with food service directors of 30 LEAs that conducted IRA, the study will describe implementation and burden of the IRA provision at the State and LEA levels. The study will then select a subsample of 20 LEAs and collect and review a sample of household applications from those LEAs for two non-consecutive school years to help evaluate the process and effectiveness of this requirement.

Affected Public: State, Local or Tribal government (54 State government respondents and 0 non-respondents; 90 Local government respondents and 5 non-respondents). We estimate there will be 5 Local government non-respondents at the LEAs who will be contacted but choose not to participate. The burden for all respondents is broken down in the table below.

Type of Respondents: State Child Nutrition (CN) Agency Directors; LEA Directors and key staff.

Estimated Number of Respondents: The total estimated number of respondents is 155. This includes 3 LEA Directors and 3 LEA staff for cognitive testing. The main study includes 54 State Child Nutrition Agency Directors, 30 LEA Directors, 60 LEA key staff, and 5 non-respondents among the LEA Directors.

Estimated Frequency of Response: The overall frequency for the collection is 5.95. The estimated frequency of response is 6.08 annually for respondents and 2.0 annually for non-respondents.

Estimated Total Annual Responses: The total estimated number of responses for data collection is 922. This includes 912 for respondents and 10 for non-respondents.

Estimated Time per Respondent: The estimated time of response varies from 1 minute to 2 hours, depending on the respondent group and activity. We will cognitively test both the State Director Survey and the LEA interview guide. We will test the survey with FNS Regional Office staff who have frequent interaction with State agencies. We will not test the survey with State agency directors because they will ultimately take the survey. The cognitive tests of the interview guide with LEA Directors and key staff will take 10 minutes to schedule (0.167 hours), and 90 minutes (1.5 hours) to conduct.

The electronic study notification letters for the State CN Directors will take 3 minutes each (0.0501 hours), as will the electronic notification letter from the State CN Agency to the LEA Directors. The electronic notification from the study team to the LEA Directors, which will include a request to schedule the interview, will take 10 minutes (0.167 hours). Scheduling interviews with LEA key staff will also take 10 minutes (0.167 hours). The State Director Survey will take 1 hour and 14 minutes from sending the online survey link to the final thank you note (1 hour to complete the online survey; 1 minute each (0.0167 hours) for the electronic invitation with a link to the survey, the two electronic reminder letters to non-respondents, and one electronic thank you letter; 10 minutes (0.1670 hours) for a phone call to the State CN Directors who have not submitted the survey within 5 days of the deadline). The study team will send 30 State CN Directors a notification letter about the selection of LEAs for in-depth telephone interviews, which will take 3 minutes (0.0501 hours). Those Directors will send a letter that the study team has drafted to the selected LEAs to notify them, which will take 10 minutes (0.167 hours). The in-depth telephone interview for LEA Directors and LEA key staff will take 90 minutes (1.5 hours), and the electronic interview follow up and thank you note will take 10 minutes (0.167 hours). The collection of household applications will take 3 minutes (0.0501 hours) for the initial electronic request sent to the LEA Directors, two 30-minute phone calls (0.5 hours each) with the Director and key staff to discuss sampling and data collection, 2 hours for two LEA staff to compile and securely transmit two years of applications, and 1 minute (0.0167 hours) for the electronic thank you note. The average estimated time per response across all respondents is 0.425 hours. The overall average response across all of the respondents (including non-respondents) in the entire collection is 0.421 hours.

Estimated Total Annual Burden on Respondents: The total public reporting burden for this collection of information is estimated at 388.6 hours (annually). The estimated burden for each type of respondent is provided in the table below.

Respondent category | Type of respondents | Instruments | Sample size | Responsive: Number of respondents | Responsive: Frequency of response | Responsive: Total annual responses | Responsive: Hours per response | Responsive: Annual burden (hours) | Non-Responsive: Number of non- respondents | Non-Responsive: Frequency of response | Non-Responsive: Total annual responses | Non-Responsive: Hours per response | Non-Responsive: Annual burden (hours) | Grand total annual burden estimate (hours)
State Child Nutrition (CN) Agency | State Director | Electronic Study Notification Letter from FNS Electronic Study Notification Letter from Westat | 54 54 | 54 54 | 1 1 | 54 54 | 0.0501 0.0501 | 2.7 2.7 | 0 0 | 0 0 | 0 0 | 0.000 0.000 | 0.0 0.0 | 2.7 2.7
|  | Electronic Letter with Link to Online Survey | 54 | 54 | 1 | 54 | 0.0167 | 0.9 | 0 | 0 | 0 | 0.000 | 0.0 | 0.9
|  | Electronic Survey Reminder Letter #1 | 30 | 30 | 1 | 30 | 0.0167 | 0.5 | 0 | 0 | 0 | 0.000 | 0.0 | 0.5
|  | Electronic Survey Reminder Letter #2 | 15 | 15 | 1 | 15 | 0.0167 | 0.3 | 0 | 0 | 0 | 0.000 | 0.0 | 0.3
|  | Phone Calls to Nonrespondent State Directors | 5 | 5 | 1 | 5 | 0.1670 | 0.8 | 0 | 0 | 0 | 0.000 | 0.0 | 0.8
|  | Online survey | 54 | 54 | 1 | 54 | 1.0000 | 54.0 | 0 | 0 | 0 | 0.000 | 0.0 | 54.0
|  | Electronic thank you note following survey completion | 54 | 54 | 1 | 54 | 0.0167 | 0.9 | 0 | 0 | 0 | 0.000 | 0.0 | 0.9
|  | Electronic Notifcation Letter from Westat regarding LEA selection | 30 | 30 | 1 | 30 | 0.0501 | 1.5 | 0 | 0 | 0 | 0.000 | 0.0 | 1.5
|  | Electronic Letter from State CN Agency to Selected LEAs | 30 | 30 | 1 | 30 | 0.1670 | 5.0 | 0 | 0 | 0 | 0.000 | 0.0 | 5.0
State Government Sub-Total |  |  | 54 | 54 | 7.04 | 380 | 0.1824 | 69.3 | 0 | 0.00 | 0 | 0.0000 | 0.0 | 69.3
Local Education Agency (LEA) | LEA Director | Scheduling Cognitive Test of Interview Guide Cognitive Test of Interview Guide | 3 3 | 3 3 | 1 1 | 3 3 | 0.1670 1.5000 | 0.5 4.5 | 0 0 | 0 0 | 0 0 | 0.000 0.000 | 0.0 0.0 | 0.5 4.5
|  | Electronic Study Notification Letter from State CN Agency | 35 | 30 | 1 | 30 | 0.0501 | 1.5 | 5 | 1 | 5 | 0.0501 | 0.3 | 1.8
|  | Electronic Study Notification Letter from Westat, incl. Request to Schedule Phone Interview | 35 | 30 | 1 | 30 | 0.1670 | 5.0 | 5 | 1 | 5 | 0.1670 | 0.8 | 5.8
|  | In-Depth Phone Interview (includes consent) | 30 | 30 | 1 | 30 | 1.5000 | 45.0 | 0 | 0 | 0 | 0.0000 | 0.0 | 45.0
|  | In-Depth Interview Follow Up and Thank You Note | 30 | 30 | 1 | 30 | 0.1670 | 5.0 | 0 | 0 | 0 | 0.0000 | 0.0 | 5.0
|  | Electronic Letter Request for Sample of Household Applications | 20 | 20 | 1 | 20 | 0.0501 | 1.0 | 0 | 0 | 0 | 0.0000 | 0.0 | 1.0
|  | Phone Call to Discuss Sampling and Collection of Household Applications | 20 | 20 | 2 | 40 | 0.5000 | 20.0 | 0 | 0 | 0 | 0.0000 | 0.0 | 20.0
| LEA Key Staff | Scheduling Cognitive Test of Interview Guide | 3 | 3 | 1 | 3 | 0.1670 | 0.5 | 0 | 0 | 0 | 0.000 | 0.0 | 0.5
|  | Cognitive Test of Interview Guide | 3 | 3 | 1 | 3 | 1.5000 | 4.5 | 0 | 0 | 0 | 0.000 | 0.0 | 4.5
|  | Scheduling the In-Depth Phone Interview | 60 | 60 | 1 | 60 | 0.1670 | 10.0 | 0 | 0 | 0 | 0.0000 | 0.0 | 10.0
|  | In-Depth Phone Interview (includes consent) | 60 | 60 | 1 | 60 | 1.5000 | 90.0 | 0 | 0 | 0 | 0.0000 | 0.0 | 90.0
|  | In-Depth Phone Interview Follow Up and Thank You Note | 60 | 60 | 1 | 60 | 0.1667 | 10.0 | 0 | 0 | 0 | 0.0000 | 0.0 | 10.0
|  | Phone Call to Discuss Sampling and Collection of Household Applications | 40 | 40 | 2 | 80 | 0.5000 | 40.0 | 0 | 0 | 0 | 0.0000 | 0.0 | 40.0
|  | Collection of Sample of Household Applications | 40 | 40 | 1 | 40 | 2.0000 | 80.0 | 0 | 0 | 0 | 0.0000 | 0.0 | 80.0
|  | Electronic Thank You Note for Household Applications | 40 | 40 | 1 | 40 | 0.0167 | 0.7 | 0 | 0 | 0 | 0.0000 | 0.0 | 0.7
Local Government Sub-Total |  |  | 101 | 96 | 5.54 | 532 | 0.5981 | 318.2 | 5 | 2.00 | 10 | 0.1086 | 1.1 | 319.3
Total |  |  | 155 | 150 | 6.08 | 912 | 0.4249 | 387.5 | 5 | 2.00 | 10 | 0.1086 | 1.1 | 388.6
Footnote: Annual burden hours are rounded to the nearest tenth.

Dated: January 25, 2018.
Brandon Lipps,
Administrator, Food and Nutrition Service.

[FR Doc. 2018-02379 Filed 2-5-18; 8:45 am]

BILLING CODE 3410-30-P